DEPARTMENT OF LABOR

Employee Benefits Security Administration

Proposed Extension of Information Collection Request Submitted for Public Comment; Proposed Extension of Information Collection; Comment Request; Form 5500 Annual Return/Report of Employee Benefit Plan

ACTION: Notice.

SUMMARY: The Department of Labor, as part of its continuing effort to reduce paperwork and respondent burden, conducts a preclearance consultation program to provide the general public and Federal agencies with an opportunity to comment on proposed and continuing collections of information in accordance with the Paperwork Reduction Act of 1995 (PRA 95). This program helps to ensure that requested data can be provided in the desired format, reporting burden (time and financial resources) is minimized, collection instruments are clearly understood, and the impact of collection requirements on respondents can be properly assessed. Currently, the Employee Benefits Security Administration (EBSA) is soliciting comments on the proposed extension of Form 5500 Annual Return/Report of Employee Benefit Plan. The Internal Revenue Service (IRS) published its preclearance notice related to the Form 5500 and schedules on April 8, 2004 (69 FR 18681).

A copy of the proposed information collection request (ICR) can be obtained by contacting the office listed below in the addresses section of this notice. Although the 2004 Form 5500 is not yet available, it is not expected at this time to differ materially from the 2003 Form 5500.

Informational copies of the 2004 Form 5500 and schedules, as well as the 2004 Form 5500 and schedules when they are finalized, are available for downloading and viewing on the EFAST Web site: http://www.efast.dol.gov. Official hand print forms are also made available as part of the annual mailing of the Form 5500 package. The hand print forms, schedules and instructions are available by calling: 1-800-TAX-FORM (1-800-829-3676).

DATES: Written comments must be submitted to the office listed in the addresses section below on or before October 25, 2004.

ADDRESSES: Interested parties are invited to submit written comments regarding the collection of information. Send comments to Mr. Gerald B. Lindrew, Office of Policy and Research, U.S. Department of Labor, Employee Benefits Security Administration, 200 Constitution Avenue, NW., Room N-5647, Washington, DC 20210. Telephone: (202) 693-8410 Fax: (202) 693-4745 (These are not toll-free numbers). All comments will be shared between the Agencies.s

SUPPLEMENTARY INFORMATION:

I. Background

Under Titles I and IV of the Employee Retirement Income Security Act of 1974, as amended (ERISA), and the Internal Revenue Code of 1986, as amended (the Code), pension and other employee benefit plans are generally required to file annual returns/reports concerning, among other things, the financial condition and operations of the plan. These annual reporting requirements can be satisfied by filing the Form 5500 in accordance with its instructions and related regulations. The Form 5500 is the primary source of information concerning the operation, funding, assets and investments of pension and other employee benefit plans. In addition to being an important disclosure document for plan participants and beneficiaries, the Form 5500 is a compliance and research tool for EBSA, the Pension Benefit Guarantee Corporation (PBGC), and the IRS, and a source of information for other federal agencies, Congress, and the private sector for use in assessing employee benefit, tax, and economic trends and policies.

The 1999 and later Forms 5500 are available in two different formats. Both have the same data elements, but provide filers with a choice of formats for preparing the form. The formats are referred to as “machine print” and “hand print.” EFAST, the computerized system for processing the Form 5500, is designed to accept only approved machine print and hand print forms. Several vendors offer EFAST-approved computer software that may be used to complete the 2000 and later versions of either the machine print or the hand print Form 5500. Filers completing the Form 5500 by hand or typewriter must use the official government-produced hand print forms because the EFAST system uses optical character recognition technology to scan the data entries on the specially designed forms that enable the computer to read the forms.

The hand print forms can be filed only on paper by mail or approved private delivery services. The machine print forms may be printed out and filed on paper by mail or approved private delivery service, transmitted on-line via modem, or transferred to floppy disks, tapes, or CD-ROMs and filed via mail or approved private delivery service. Electronic filers submitting via modem must use approved EFAST transmitters. Additional information concerning EFAST filing requirements may be found on the EFAST website, or by calling 1-866-463-3278 Monday through Friday from 8 a.m. to 8 p.m. Eastern Time.

II. Review Focus

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Agencies intend to request an extension of the currently approved ICR. Although the 2004 Form 5500 Series is not yet available, the Agencies will not be making program changes that would be material for purposes of this ICR.

Agency: Department of Labor, Employee Benefits Security Administration.

Title: Form 5500 Annual Return/Report of Employee Benefit Plan.

Type of Review: Extension of currently approved collections.

OMB Numbers: 1210-0110 (EBSA).

Affected Public: Individuals or households; business or other for-profit; not-for-profit institutions.

Form Number: Form 5500.

Total Respondents: 863,682.

Total Responses: 863,682.

Frequency of Response: Annually.

Estimated Burden Hours: 1,847,163 for EBSA.

Estimated Burden Cost (Operating and Maintenance): $546,789,000 for EBSA.

Comments submitted in response to this request will be summarized and/or included in the request for Office of Management and Budget approval of the information collection request; they will also become a matter of public record.

Dated: August 18, 2004.
Joseph Piacentini,
Acting Director, Office of Policy and Research, Employee Benefits Security Administration.

[FR Doc. 04-19315 Filed 8-23-04; 8:45 am]

BILLING CODE 4510-29-M